NUCLEAR REGULATORY COMMISSION

10 CFR Chapter I

[NRC-2019-0056]

Unified Agenda of Federal Regulatory and Deregulatory Actions

AGENCY: Nuclear Regulatory Commission.

ACTION: Semiannual regulatory agenda.

SUMMARY: We are publishing our semiannual regulatory agenda (the Agenda) in accordance with Public Law 96-354, “The Regulatory Flexibility Act,” and Executive Order 12866, “Regulatory Planning and Review.” NRC's complete Agenda, available on the Office of Budget and Management's website http://www.reginfo.gov, is a compilation of all rulemaking activities on which we have recently completed action or have proposed or are considering action. We have completed 11 rulemaking activities since publication of our last Agenda on November 16, 2018 (83 FR 58164). This issuance of our Agenda contains 32 active and 22 long-term rulemaking activities: 3 are Economically Significant; 16 represent Other Significant agency priorities; 33 are Substantive, Nonsignificant rulemaking activities; and 2 are Administrative rulemaking activities. In addition, 3 rulemaking activities impact small entities; these entries are printed in this document. We are requesting comment on the rulemaking activities as identified in this Agenda.

DATES: Submit comments on rulemaking activities as identified in this Agenda by July 24, 2019.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking website by going to http://www.regulations.gov and searching for Docket ID NRC-2019-0056. Address questions about NRC dockets to Carol Gallagher; telephone: 301-415-3463; email: Carol.Gallagher@nrc.gov.

For additional direction on obtaining information and submitting comments, see “Obtaining Information and Submitting Comments” in the SUPPLEMENTARY INFORMATION section of this document.

FOR FURTHER INFORMATION CONTACT: Cindy Bladey, Office of Nuclear Material Safety and Safeguards, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2019-0056 when contacting the NRC about the availability of information for this document.

• Federal Rulemaking Website: Go to http://www.regulations.gov and search for Docket ID NRC-2019-0056.

• NRC's Public Document Room: You may examine and purchase copies of public documents at the NRC's PDR, Room O1-F21, One White Flint North, 11555 Rockville Pike, Rockville, Maryland 20852.

• Reginfo.gov:

○ For completed rulemaking activities go to http://www.reginfo.gov/public/do/eAgendaHistory?showStage=completed, select “spring 2019 Unified Agenda of Federal Regulatory and Deregulatory Actions” from drop down menu, and select “Nuclear Regulatory Commission” from drop down menu.

○ For active rulemaking activities go to http://www.reginfo.gov/public/do/eAgendaMain and select “Nuclear Regulatory Commission” from drop down menu.

○ For long-term rulemaking activities go to http://www.reginfo.gov/public/do/eAgendaMain, select “Current Long Term Actions” link, and select “Nuclear Regulatory Commission” from drop down menu.

B. Submitting Comments

Please include Docket ID NRC-2019-0056 in your comment submission.

The NRC cautions you not to include identifying or contact information that you do not want to be publicly disclosed in your comment submission. The NRC will post all comment submissions at http://www.regulations.gov as well as enter the comment submissions into the NRC's Agencywide Documents Access and Management System (ADAMS). The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: Completed, active, and long-term. Completed rulemaking activities are those that were completed since publication of an agency's last Agenda; active rulemaking activities are those for which an agency currently plans to have an Advance Notice of Proposed Rulemaking, a Proposed Rule, or a Final Rule issued within the next 12 months; and long-term rulemaking activities are rulemaking activities under development but for which an agency does not expect to have a regulatory action within the 12 months after publication of the current edition of the Unified Agenda.

The NRC assigns a “Regulation Identifier Number” (RIN) to a rulemaking activity when the Commission initiates a rulemaking and approves a rulemaking plan, or when the NRC staff begins work on a Commission-delegated rulemaking that does not require a rulemaking plan. The Office of Management and Budget uses this number to track all relevant documents throughout the entire “lifecycle” of a particular rulemaking activity. The NRC reports all rulemaking activities in the Agenda that have been assigned a RIN and meet the definition for a completed, an active, or a long-term rulemaking activity.

The information contained in this Agenda is updated to reflect any action that has occurred on a rulemaking activity since publication of our last Agenda on November 16, 2018 (83 FR 58164). Specifically, the information in this Agenda has been updated through March 6, 2019. The NRC provides additional information on planned rulemaking and petition for rulemaking activities, including priority and schedule, on our website at https://www.nrc.gov/about-nrc/regulatory/rulemaking/rules-petitions.html#cprlist.

The date for the next scheduled action under the heading “Timetable” is the date the next regulatory action for the rulemaking activity is scheduled to be published in the Federal Register. The date is considered tentative and is not binding on the Commission or its staff. The Agenda is intended to provide the public early notice and opportunity to participate in our rulemaking process. However, we may consider or act on any rulemaking activity even though it is not included in the Agenda.

Section 610 Periodic Reviews Under the Regulatory Flexibility Act

Section 610 of the Regulatory Flexibility Act (RFA) requires agencies to conduct a review within 10 years of issuance of those regulations that have or will have a significant economic impact on a substantial number of small entities. We undertake these reviews to decide whether the rules should be unchanged, amended, or withdrawn. At this time, we do not have any rules that have a significant economic impact on a substantial number of small entities; therefore, we have not included any RFA Section 610 periodic reviews in this edition of the Agenda. A complete listing of our regulations that impact small entities and related Small Entity Compliance Guides are available from the NRC's website at http://www.nrc.gov/about-nrc/regulatory/rulemaking/flexibility-act/small-entities.html.

Dated at Rockville, Maryland, this 6th day of March 2019.
For the Nuclear Regulatory Commission.
Cindy Bladey,
Chief, Regulatory Analysis and Rulemaking Support Branch, Division of Rulemaking, Office of Nuclear Material Safety and Safeguards.

Nuclear Regulatory Commission—Proposed Rule Stage
Sequence No. | Title | Regulation Identifier No.
333 | Revision of Fee Schedules: Fee Recovery for FY 2020 [NRC-2017-0228] | 3150-AK10

Nuclear Regulatory Commission—Final Rule Stage
Sequence No. | Title | Regulation Identifier No.
334 | Revision of Fee Schedules: Fee Recovery for FY 2019 [NRC-2017-0032] | 3150-AJ99

Nuclear Regulatory Commission—Long-Term Actions
Sequence No. | Title | Regulation Identifier No.
335 | Revision of Fee Schedules: Fee Recovery for FY 2021 [NRC-2018-0292] | 3150-AK24

NUCLEAR REGULATORY COMMISSION (NRC)

Proposed Rule Stage

333. Revision of Fee Schedules: Fee Recovery for FY 2020 [NRC-2017-0228]

E.O. 13771 Designation: Independent agency.

Legal Authority: 31 U.S.C. 483; 42 U.S.C. 2201; 42 U.S.C. 2214; 42 U.S.C. 5841

Abstract: This rulemaking would amend the NRC's regulations for fee schedules. The NRC conducts this rulemaking annually to recover approximately 90 percent of its budget authority in a given fiscal year to implement the Omnibus Budget Reconciliation Act of 1990, as amended. This rulemaking would affect the fee schedules for licensing, inspection, and annual fees charged to the NRC's applicants and licensees.

Timetable:

Action | Date | FR Cite
NPRM | 01/00/20 |
Final Rule | 05/00/20 |

Regulatory Flexibility Analysis Required: Yes.

Agency Contact: Anthony Rossi, Nuclear Regulatory Commission, Office of the Chief Financial Officer, Washington, DC 20555-0001, Phone: 301 415-7341, Email: anthony.rossi@nrc.gov.

RIN: 3150-AK10

NUCLEAR REGULATORY COMMISSION (NRC)

Final Rule Stage

334. Revision of Fee Schedules: Fee Recovery for FY 2019 [NRC-2017-0032]

E.O. 13771 Designation: Independent agency.

Legal Authority: 31 U.S.C. 483; 42 U.S.C. 2201; 42 U.S.C. 2214; 42 U.S.C. 5841

Abstract: This rule would implement the Omnibus Budget Reconciliation Act of 1990 (OBRA-90), as amended, which requires the NRC to recover approximately 90 percent of its budget authority in a given fiscal year, less the amounts appropriated from the Waste Incidental to Reprocessing, generic homeland security activities, and Inspector General services for the Defense Nuclear Facilities Safety Board, through fees assessed to licensees. This rulemaking would amend the Commission's fee schedules for licensing, inspection, and annual fees charged to its applicants and licensees. The licensing and inspection fees are established under 10 CFR part 170 and recover the NRC's cost of providing services to identifiable applicants and licensees. Examples of services provided by the NRC for which 10 CFR part 170 fees are assessed include license application reviews, license renewals, license amendment reviews, and inspections. The annual fees established under 10 CFR part 171 recover budgeted costs for generic (e.g., research and rulemaking) and other regulatory activities not recovered under 10 CFR part 170 fees.

Timetable:

Action | Date | FR Cite
NPRM | 01/31/19 | 84 FR 578
NPRM Comment Period End | 03/04/19 |
Final Rule | 05/00/19 |

Regulatory Flexibility Analysis Required: Yes.

Agency Contact: Anthony Rossi, Nuclear Regulatory Commission, Office of the Chief Financial Officer, Washington, DC 20555-0001, Phone: 301 415-7341, Email: anthony.rossi@nrc.gov.

RIN: 3150-AJ99

NUCLEAR REGULATORY COMMISSION (NRC)

Long-Term Actions

335. • Revision of Fee Schedules: Fee Recovery for FY 2021 [NRC-2018-0292]

E.O. 13771 Designation: Independent agency.

Legal Authority: 31 U.S.C. 483; 42 U.S.C. 2201; 42 U.S.C. 2214; 42 U.S.C. 5841

Abstract: This rulemaking would amend the NRC's regulations for fee schedules. The NRC conducts this rulemaking annually to recover approximately 100 percent of the NRC's FY 2021 budget authority, less excluded activities to implement NEIMA. This rulemaking would affect the fee schedules for licensing, inspection, and annual fees charged to the NRC's applicants and licensees.

Timetable:

Action | Date | FR Cite
NPRM | 01/00/21 |

Regulatory Flexibility Analysis Required: Yes.

Agency Contact: Anthony Rossi, Nuclear Regulatory Commission, Office of the Chief Financial Officer, Washington, DC 20555-0001, Phone: 301 415-7341, Email: anthony.rossi@nrc.gov.

RIN: 3150-AK24

[FR Doc. 2019-11691 Filed 6-21-19; 8:45 am]

BILLING CODE 7590-01-P